ENVIRONMENTAL PROTECTION AGENCY

[EPA-HQ-OPPT-2005-0051; FRL-8272-1]

Asbestos-Containing Materials in Schools; State Request for Waiver From Requirements

AGENCY: Environmental Protection Agency (EPA).

ACTION: Notice of final approval.

SUMMARY: EPA is approving a waiver of the requirements of the Federal asbestos-in-schools program for the Commonwealth of Kentucky. A waiver request can be granted if EPA determines that the Commonwealth of Kentucky is implementing or intends to implement a state program of asbestos inspection and management that is at least as stringent as the federal program. This action approves the waiver request submitted by Governor Paul E. Patton, on January 4, 1999. On June 1, 2006, EPA published a notice of proposed approval and request for comments, and on August 31, 2006, published a reopening of comment period and correction. A detailed description of this waiver request and EPA's rationale for approving it was provided in the notice of proposed approval and request for comments and will not be restated here. No significant or adverse comments were received on EPA's proposal.

EFFECTIVE DATE: This final approval is effective on February 22, 2007.

ADDRESSES: EPA has established a docket for this action under Docket Identification No. EPA-HQ-OPPT-2005-0051. All documents in the docket are listed on the www.regulations.gov Web site. Although listed in the index, some information is not publicly available, i.e., Confidential Business Information or other information whose disclosure is restricted by statute. Certain other material, such as copyrighted material, is not placed on the Internet and will be publicly available only in hard copy form. Publicly available docket materials are available either electronically through www.regulations.gov or in hard copy at the Asbestos Coordinator, Region 4, Environmental Protection Agency, Atlanta Federal Center, 61 Forsyth Street SW., Atlanta, GA 30303-8960. EPA requests that if at all possible, you contact the person listed in the FOR FURTHER INFORMATION CONTACT section to schedule your inspection. The Regional Office's official hours of business are Monday through Friday, 8:30 to 4:30, excluding legal holidays.

FOR FURTHER INFORMATION CONTACT: For general information contact: Colby Lintner, Regulatory Coordinator, Environmental Assistance Division (7408M), Office of Pollution Prevention and Toxics, Environmental Protection Agency, 1200 Pennsylvania Ave., NW., Washington, DC 20460-0001; telephone number: (202) 564-8182; e-mail address: TSCA-Hotline@epa.gov.

For technical information contact: John Hund, Asbestos Coordinator, Region 4, Environmental Protection Agency, Atlanta Federal Center, 61 Forsyth Street, SW., Atlanta, GA 30303-8960; telephone number: (404) 562-8978; e-mail address: hund.john@epa.gov.

SUPPLEMENTARY INFORMATION:

I. What Action Is the Agency Taking?

EPA is granting a waiver of the asbestos-in-schools program to the Commonwealth of Kentucky. This waiver is issued under section 203(m) of the Toxic Substances Control Act (TSCA) and 40 CFR 763.98. Section 203 is within Title II of TSCA, the Asbestos Hazard Emergency Response Act (AHERA). The Agency recognizes that a waiver granted to any State would not encompass schools operated under the defense dependents' education system (the third type of local education agency (LEA) defined at TSCA section 202(7) and 40 CFR 763.83), which serve dependents in overseas areas, and other elementary and secondary schools outside a State's jurisdiction, which generally includes schools in Indian country. Such schools would remain subject to EPA's asbestos-in-schools program.

On June 1, 2006, (71 FR 31183) EPA published a notice of proposed approval and request for comments. A detailed description of this waiver request and EPA's rationale for approving it was provided in the notice of proposed approval and request for comments and will not be restated here. On August 31, 2006, (71 FR 51816) EPA published a reopening of comment period and correction notice. No significant or adverse comments were received on EPA's proposal.

II. What Is the Agency's Authority for Taking This Action?

In 1987, under TSCA section 203, the Agency promulgated regulations that require the identification and management of asbestos-containing material by LEAs in the nation's elementary and secondary school buildings: The “AHERA Schools Rule” (40 CFR part 763, subpart E). Under section 203(m) of TSCA and 40 CFR 763.98, upon request by a State Governor and after notice and comment and opportunity for a public hearing in the State, EPA may waive, in whole or in part, the requirements of the asbestos-in-schools program (TSCA section 203 and the AHERA Schools Rule) if EPA determines that the State has established and is implementing or intends to implement a program of asbestos inspection and management that contains requirements that are at least as stringent as those in the Agency's asbestos-in-schools program. A State seeking a waiver must submit its request to the EPA Region in which that State is located.

III. When Did Kentucky Submit Its Request for a Waiver?

On January 4, 1999, Governor Paul E. Patton, submitted to the EPA Region 4 Regional Administrator, a letter with supporting documentation requesting a full waiver of the requirements of EPA's asbestos-in-schools program pursuant to the AHERA statute and 40 CFR 763.98. The EPA Region 4 Administrator indicated by letter dated February 19, 1999, to Kentucky that the request was complete. A subsequent letter dated August 21, 2000, from the Director of Kentucky Division for Air Quality, corrected an inadvertent error in the January 4, 1999, letter.

IV. Materials in the Official Record

The official record, under Docket ID Number EPA-HQ-OPPT-2005-0051, contains the Kentucky waiver request, and any other supporting or relevant documents.

List of Subjects

Environmental protection, Asbestos, Hazardous substances, Occupational health and safety, Reporting and recordkeeping requirements, Schools.

Authority: 42 U.S.C. 7401 et seq.

Dated: January 8, 2007.
A. Stanley Meiburg,
Acting Regional Administrator, Region 4.

[FR Doc. E7-922 Filed 1-22-07; 8:45 am]

BILLING CODE 6560-50-P